DEPARTMENT OF AGRICULTURE

Farm Service Agency

[Docket ID FSA-2023-0005]

Application Fast Track Pilot Program—Extension

AGENCY: Farm Service Agency, USDA.

ACTION: Notice.

SUMMARY: The Farm Service Agency (FSA) is announcing the extension of the Application Fast Track (AFT) pilot program that was launched August 7, 2023, which continues the expedited processing of qualified direct Operating Loans (OL) and Farm Ownership Loans (FO) to family farmers and ranchers. AFT has been available to all customers nationwide since January 1, 2024. AFT is being extended through December 31, 2025, to allow time for FSA to continue to evaluate the administrative effectiveness of AFT. The initial results of AFT reflect a significant improvement in processing times for all customers, and FSA is continuing to monitor loan performance, and overall satisfaction with the AFT pilot program from both customers and staff.

FOR FURTHER INFORMATION CONTACT: Houston Bruck; telephone: (202) 650-7874; or by email: houston.bruck@usda.gov. Individuals who require alternative means for communication should contact the USDA TARGET Center at (202) 720-2600 (voice and text telephone (TTY)) or dial 711 for Telecommunications Relay service (both voice and text telephone users can initiate this call from any telephone).

SUPPLEMENTARY INFORMATION:

Background

FSA is extending the “Application Fast Track” that was launched August 7, 2023 (88 FR 51260-51265), which continues the expedited processing of qualified direct OLs and FOs to family farmers and ranchers. AFT provides an alternative underwriting process for applicants that meet certain financial benchmarks. AFT has been available to all customers nationwide since January 1, 2024. The AFT pilot provisions are unchanged in this notice from what was announced in the August 7, 2023, notice.

Authority

The authority to conduct AFT is provided in section 333D of the Consolidated Farm and Rural Development Act (CONACT, 7 U.S.C. 1983d), which authorizes pilot projects of limited scope and duration to evaluate processes and techniques to improve program efficiency and effectiveness.

AFT Initial Results

The initial results of AFT reflect a significant improvement in processing times for all customers, and FSA is continuing to monitor loan performance, overall satisfaction with the AFT pilot program from both customers and staff, and the administrative effectiveness of AFT. The initial results of the AFT pilot program have resulted in approximately 22 percent of customers qualifying for AFT, with significant reduction in processing time for those applications by approximately 8 calendar days. Customers not qualifying for AFT are also realizing an improvement in processing times of approximately 1 calendar day.

Comments Received

FSA received three public comments to the initial publication announcing the AFT pilot program. Two of the comments were critical of the Federal government's involvement in farm lending and are outside the scope of the AFT pilot program. One of the comments expressed concern over the potential for overpayments and that the initial AFT pilot offices were not available in all locations.

The lending program does not provide payments to farmers. Also, after the initial roll-out period of August 2023 through December 2023, the AFT pilot program was expanded to all locations nationwide in January 2024.

Contact Information

Questions on AFT may be directed to the Farm Loan Programs staff in the local FSA county office. The local FSA county office may be found at http://www.farmers.gov/working-with-us/USDA-service-centers.

Paperwork Reduction Act Requirements

In accordance with the provisions of the Paperwork Reduction Act of 1995 (44 U.S.C. chapter 35), there are no changes the information collection approved by OMB under control numbers 0560-0236 and 0560-0237.

Environmental Review

The environmental impacts have been considered in a manner consistent with the provisions of the National Environmental Policy Act (NEPA, 42 U.S.C. 4321-4347), the regulations of the Council on Environmental Quality (40 CFR parts 1500-1508), and the FSA regulations for compliance with NEPA (7 CFR part 799).

The purpose of AFT is to improve internal underwriting processes to expedite Farm Loan Programs application processing. The limited discretionary aspects of AFT do not have the potential to impact the human environment as they are administrative. Accordingly, these discretionary aspects are covered by the categorical exclusions in 7 CFR 799.31(b)(3)(i) that applies to Farm Loan Programs, provided no extraordinary circumstances are found to exist. As such, the implementation of AFT and the participation in AFT do not constitute major Federal actions that would significantly affect the quality of the human environment, individually or cumulatively. Therefore, FSA will not prepare an environmental assessment or environmental impact statement for this action and this document serves as documentation of the programmatic environmental compliance decision for this federal action.

Federal Assistance Programs

The title and number of the Federal assistance programs, as found in the Assistance Listing, to which this document applies is 10.406 Farm Operating Loans and 10.407 Farm Ownership Loans.

USDA Non-Discrimination Policy

In accordance with Federal civil rights law and USDA civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or USDA TARGET Center at (202) 720-2600 (voice and text telephone (TTY) or dial 711 for Telecommunications Relay Service (both voice and text telephone users can initiate this call from any telephone). Additionally, program information may be made available in languages other than English.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by mail to: U.S. Department of Agriculture, Office of the Assistant Secretary for Civil Rights, 1400 Independence Avenue SW, Washington, DC 20250-9410 or email: OAC@usda.gov.

USDA is an equal opportunity provider, employer, and lender.

Steven Peterson,
Administrator, Farm Service Agency.

[FR Doc. 2024-22353 Filed 9-27-24; 8:45 am]

BILLING CODE 3411-E2-P